DEPARTMENT OF HEALTH AND HUMAN SERVICES

National Institutes of Health

Center for Scientific Review; Amended Notice of Meeting

Notice is hereby given of a change in the meeting of the Center for Scientific Review Special Emphasis Panel, Small Business: Respiratory Sciences, July 02, 2020, 08:00 a.m. to July 03, 2020, 05:00 p.m., National Institutes of Health, Rockledge II, 6701 Rockledge Drive, Bethesda, MD 20892, which was published in the Federal Register on June 09, 2020, 85 FR 35315.

This notice is being amended to change the meeting date from to July 2-3, 2020 to July 1-2, 2020. The time and meeting location remain the same. The meeting is closed to the public.

Dated: June 9, 2020.
Miguelina Perez,
Program Analyst, Office of Federal Advisory Committee Policy.

[FR Doc. 2020-12819 Filed 6-12-20; 8:45 am]

BILLING CODE 4140-01-P